DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by May 27, 2025. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: USDA Farmers Market Application.

OMB Control Number: 0581-0229.

Summary of Collection: The Agricultural Marketing Act of 1946 (7 U.S.C. 1621-1627) directs and authorizes the Secretary to conduct, assist, and foster research, investigation, and experimentation to determine the best methods of processing, preparation for market packaging, handling, transporting, distributing, and marketing agricultural products. It is the mission of AMS to experiment with direct marketing techniques and to educate consumers on the benefits of the use of such agricultural products. The USDA Farmers Market falls well within these guidelines.

Need and Use of the Information: The information collected on the Application allows AMS the means to review and select participants for the annual market season. Applicants can apply online at www.ManageMyMarket.com. The type of information requested on the website for the application includes: (1) Certification the applicant is the owner or representative of the farm or business; (2) applicant contact information including name(s), address, phone number, and email address; (3) farm or business location; (4) types of products grown or to be sold; (5) business practices and direct sourcing relationships with local farmers, ranchers and growers; (6) weekly sales data; (7) insurance coverage; and (8) all applicable food safety documents. Vendors selected to the market provide a signed copy of the Participant Agreement, which states that the vendor has read, understands and agrees to adhere to all applicable rules and guidelines as outlined in the USDA Farmers Market Rules, Procedures, and Operating Guidelines. Sales Data is collected from vendors weekly.

This information is useful in letting AMS know how well the market and vendors are doing overall.

Description of Respondents: Business or other for-profit; Farms; Individuals.

Number of Respondents: 68.

Frequency of Responses: Reporting: Annually.

Total Burden Hours: 201.

Agricultural Marketing Service

Title: USDA Web Based Supply Chain Management System (WBSCM).

OMB Control Number: 0581-0273.

Summary of Collection: Section 32 of the Act of August 24, 1935, as amended (Section 32 Pub. L. 74-320; 7 U.S.C. 612c); Sections 6(a) and (e), 13, and 17 of the National School Lunch Act, as amended, (42 U.S.C. 1751, 1761, and 1766) in addition to several other acts authorize the Agricultural Marketing Service (AMS) Procurement Branches to prepare and issue announcements for the purchase and sale of perishable agricultural commodities. AMS purchases agricultural commodities for the Section 32 and 6a & e National School Lunch Program/Child & Adult Care Food Program; Nutrition Service Incentive Program; Food Distribution Program on Indian Reservations; Commodity Supplemental Food Program; The Emergency Food Assistance Program and Disaster Feeding in addition to providing support for commodity markets with surplus inventory.

Need and Use of the Information: AMS issues solicitation for offers in order to solicit bids for commodities and transportation costs for delivery to domestic and international nutrition assistance programs. Vendors respond by making electronic offers using the secure Web Based Supply Chain Management System (WBSCM) https://portal.wbscm.usda.gov. Vendors must be registered to submit bids electronically through WBSCM via the internet. The information will change in response to the needs of the feeding programs and each solicitation.

It is necessary to collect the information recorded on the offer screens to determine who the successful bidder is under solicitation to purchase products and services.

Description of Respondents: Business or other for profit; Farms.

Number of Respondents: 500.

Frequency of Responses: Reporting: On occasion; Weekly; Monthly; Quarterly.

Total Burden Hours: 50,399.

Agricultural Marketing Service

Title: Regulations and Related Reporting and Recording Requirements—FTPP, Packers and Stockyards Division.

OMB Control Number: 0581-0308.

Summary of Collection: The Agricultural Marketing Service (AMS) administers the provisions of the Packers and Stockyards Act of 1921 (Act), as amended and supplemented (7 U.S.C. 181-229c). The Act is designed to protect the financial interests of livestock and poultry producers engaged in commerce of livestock and live poultry sold for slaughter. It also protects members of the livestock and poultry marketing, processing, and merchandising industries from unfair, unjustly discriminatory, deceptive, or anti-competitive practices in the livestock, meat, and poultry industries. AMS will collect information using several forms.

Need and Use of the Information: Through the forms in this information collection, the Fair-Trade Practices Program (FTPP), Packers and Stockyards Division (PSD) gathers information that keeps PSD current on the ownership and operations of regulated entities which permit PSD oversight of the regulated entities. For example, PSD gathers information regarding the number of head of livestock purchased and the cost of the livestock to determine if the entity is adequately bonded to protect the livestock sellers. The information regarding the amount of livestock purchased is also consolidated for public reporting in PSD's annual report. Other financial information is gathered to determine if the regulated entities are operating while solvent as required by the P&S Act.

This information collection is necessary for PSD to monitor and examine financial, competitive, and trade practices in the livestock, meat packing and poultry industries.

Description of Respondents: Business or other for-profit.

Number of Respondents: 11,320.

Frequency of Responses: Recordkeeping; Third party disclosure; Reporting: On occasion; Semi-annually; Annually.

Total Burden Hours: 49,339.

Levi S. Harrell,
Departmental Information Collection Clearance Officer.

[FR Doc. 2025-07146 Filed 4-24-25; 8:45 am]

BILLING CODE 3410-02-P